DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: National Survey of Children's Health.

OMB Control Number: 0607-0990.

Form Number(s):

English survey forms include:

NSCH-S1 (English Screener),

NSCH-T1 (English Topical for 0- to 5-year-old children),

NSCH-T2 (English Topical for 6- to 11-year-old children),

NSCH-T3 (English Topical for 12- to 17-year-old children).

Spanish survey forms include:

NSCH-S-S1 (Spanish Screener),

NSCH-S-T1 (Spanish Topical for 0- to 5-year-old children),

NSCH-S-T2 (Spanish Topical for 6- to 11-year-old children), and

NSCH-S-T3 (Spanish Topical for 12- to 17-year-old children).

Type of Request: Regular submission.

Number of Respondents: 54,774 for the production screener only and 39,596 for the combined production screener and topical.

Average Hours per Response: 0.083 hours for the production screener only which covers households without children and those households that do not complete a topical questionnaire. For those households that do have an eligible child and complete both the production screener (0.083 hours) and topical (0.55 hours) questionnaire, their average totals 0.633 hours per response.

Burden Hours: 29,642.

Needs and Uses: The National Survey of Children's Health (NSCH) enables the Maternal and Child Health Bureau (MCHB) of the Health Resources and Services Administration (HRSA) of the U.S. Department of Health and Human Services (HHS) along with supplemental sponsoring agencies, states, and other data users to produce national and state-based estimates on the health and well-being of children, their families, and their communities as well as estimates of the prevalence and impact of children with special health care needs.

Data will be collected using one of two modes. The first mode is a web instrument (Centurion) survey that contains the screener and topical instruments. The web instrument first will take the respondent through the screener questions. If the household screens into the study, the respondent will be taken directly into one of the three age-based topical sets of questions. The second mode is a mailout/mail-back of a self-administered paper-and-pencil interviewing (PAPI) screener instrument followed by a separate mailout/mail-back of a PAPI age-based topical instrument.

The National Survey of Children's Health (NSCH) is a large-scale (sample size is 240,000 addresses) national survey with approximately 217,000 addresses included in the base production survey and approximately 23,000 addresses included as part of four separate state oversamples. The survey will consist of three additional mail package experiments. The first test will compare the traditional mail package materials (70% of the sample) against a newly redesigned suite of materials (30% of the sample) that were informed by two rounds of cognitive testing. This redesigned suite of materials is aimed at providing sampled addresses with a cohesive set of items within each survey invitation package. The proposed materials include key facts pertaining to survey data usage, relatable images for the target population, and colors that match the associated paper questionnaires. The second test will determine if envelope size has any impact on response rates. This test will be conducted during the first nonresponse follow-up mailing for the “Low Paper” treatment group and will compare a flat envelope (9″ × 11.5″) with an unfolded letter against a business standard size envelope (9.5″ × 4.125″) with a folded letter. The third test will evaluate the use of a USPS priority mail envelope in 50% of the initial topical mailings. Each test is aimed at evaluating strategies that could potentially increase response. In general, higher response can reduce follow-up costs and nonresponse bias.

As in prior cycles of the NSCH, there remain two key, non-experimental design elements. The first additional non-experimental design element is either a $2 or $5 screener cash incentive mailed to 90% (30% receiving $2 and 60% receiving $5) of sampled addresses; the remaining 10% (the control) will receive no incentive to monitor the effectiveness of the cash incentive. This incentive is designed to increase response and reduce nonresponse bias. The incentive amounts were chosen based on the results of the 2019 NSCH as well as funding availability. The second additional non-experimental design element is a data collection procedure based on the block group-level paper-only response probability used to identify households (30% of the sample) that would be more likely to respond by paper and send them a paper questionnaire from the initial mailing.

Affected Public: Parents, researchers, policymakers, and family advocates.

Frequency: The 2020 collection is the fifth administration of the NSCH. It is an annual survey, with a new sample drawn for each administration.

Respondent's Obligation: Voluntary.

Legal Authority: Census Authority: 13 U.S.C. Section 8(b).

HRSA MCHB Authority: Title 42 U.S.C. Section 701(a)(2).

USDA Authority: The Healthy, Hunger-Free Kids Act of 2010, Public Law 111-296. In particular, 42 U.S.C. 1769d(a) authorizes USDA to conduct research on the causes and consequences of childhood hunger included in 1769d(a)(4)(B), the geographic dispersion of childhood hunger and food insecurity.

CDC/NCBDDD Authority: Public Health Service Act, Section 301, 42 U.S.C. 241.

Confidentiality: The U.S. Census Bureau is required by law to protect your information. The Census Bureau is not permitted to publicly release your responses in a way that could identify you or your household. Federal law protects your privacy and keeps your answers confidential (Title 13, United States Code, Section 9). Per the Federal Cybersecurity Enhancement Act of 2015, your data are protected from cybersecurity risks through screening of the systems that transmit your data.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-04009 Filed 2-26-20; 8:45 am]

BILLING CODE 3510-07-P